DEPARTMENT OF DEFENSE

Department of the Navy

32 CFR Part 724

RIN 0703-AA64

Naval Discharge Review Board

AGENCY: Department of the Navy, DOD.

ACTION: Final Rule.

SUMMARY: This amendment reflects administrative changes made to the Department of the Navy's Naval Discharge Review Board regulations.

DATES: Effective October 19, 2000.

ADDRESSES: Office of the Judge Advocate General (Code 13), 1322 Patterson Ave. SE, Suite 3000, Washington Navy Yard, DC 20374-5066.

FOR FURTHER INFORMATION CONTACT: Roger Claussen, Legal Advisor, Naval Council of Personnel Boards, 720 Kennon Street, SE, Room 309, Washington Navy Yard, DC 20374-5023. Phone: (202) 685-6399.

SUPPLEMENTARY INFORMATION: Pursuant to the authority cited below, the Department of the Navy amends 32 CFR part 724. This amendment provides notice that the Department of the Navy has made administrative changes to the Naval Discharge Review Board regulations. These changes are found in subparts A and B and reflect updated references, removal of a redundant information, a change in the number of days an applicant has to submit documents to the Board after notification that certain documents are unavailable to the Board from 30 to 60 days, and other administrative changes. It has been determined that invitation of public comment on this amendment would be impracticable and unnecessary, and it is therefore not required under the public rulemaking provisions of 32 CFR Part 336 or Secretary of the Navy Instruction 5720.45. Interested persons, however, are invited to comment in writing on this amendment. All written comments received will be considered in making subsequent amendments or revisions of 32 CFR Part 724, or the instructions on which they are based. Changes may be initiated on the basis of comments received. Written comments should be addressed to Roger Claussen, Legal Advisor, Naval Council of Personnel Boards, 720 Kennon Street, SE, Room 309, Washington Navy Yard, DC 20374-5023. Phone: (202) 685-6399. It has been determined that this final rule is not a “significant regulatory action” as defined in Executive Order 12866.

Executive Order 13132, Federalism

It has been determined that this rule does not have sufficient Federalism implications to warrant the preparation of a Federalism Assessment. The provisions contained in this rule will have little or no direct effect on States or local governments.

Regulatory Flexibility Act

This rule will not have a significant economic impact on a substantial number of small entities for purposes of the Regulatory Flexibility Act (5 U.S.C. Chapter 6).

Paperwork Reduction Act

This rule does not impose collection of information requirements for purposes of the Paperwork Reduction Act (44 U.S.C. Chapter 35, 5 CFR Part 1320).

List of Subjects in 32 CFR Part 724

Administrative pracatice and procedure, Archives and records, Court-martial, Military personnel, Naval discharge.

For the reasons set forth in the preamble, amend part 724 of title 32 of the Code of Federal Regulations as follows:

PART 724—NAVAL DISCHARGE REVIEW BOARD

1. The authority citation for 32 CFR part 724 continues to read as follows:

Authority: 5 U.S.C. 301; 10 U.S.C. 1553.

PART 724—[AMENDED]

2. In 32 CFR part 724, revise all references to “he” to read “he/she”, and revise all references to “his” to read “his/her”.

3. Revise 32 CFR 724.108, as follows:

§ 724.108 Administrative discharge.

A discharge upon expiration of enlistment or required period of service, or prior thereto, in a manner prescribed by the Commandant of the Marine Corps or the Commander, Naval Personnel Command, but specifically excluding separation by sentence of a general court-martial.

4-5. In 32 CFR 724.109, revise paragraph (a)(4)(ii) as follows:

§ 724.109 Types of administrative discharges.

(a) * * *

(4) * * *

(ii) With respect to administrative matters outside the administrative separation system that require a characterization of service as Honorable or General, an Entry Level Separation shall be treated as the required characterization. An Entry Level Separation for a member of a Reserve component separated from the Delayed Entry Program is under honorable conditions.

* * * * *

§ 724.201 [Amended]

5. In 32 CFR 724.201, remove the words “SECNAVINST 5430.7L” and add, in their place, the words “SECNAVINST 5730.7 series”, and remove the words “SECNAVINST 5420.135C” and add, in their place, the words “SECNAVINST 5420.135 series”.

§ 724.210 [Amended]

6. In 32 CFR 724.210(a)(2), remove the number “30” and add, in its place, the number “60”.

§ 724.212 [Amended]

7. In 32 CFR 724.212, remove and reserve paragraph (c).

Dated: September 29, 2000.
C.G. Carlson,
U.S. Marine Corps, Alternate Federal Register Liaison Officer.

[FR Doc. 00-25986 Filed 10-18-00; 8:45 am]

BILLING CODE 3810-01-P